FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel Operating Common Carrier Ocean Transportation Intermediary Applicants

Guardship America, Inc., 9435 Washington Boulevard, Suite J, Laurel, MD 29723. Officers: Syl Taylor, C.F.O./Director (Qualifying Individual), Leslie G. Samuels, President.

Global Marine Transportation Inc., 205 W. 88th Street, Suite 4C, New York, NY 10024. Officer: Gloria P. Avendano, President (Qualifying Individual).

Non-Vessel Operating Common Carrier and Ocean Freight Forwarder Transportation Intermediary Applicants

Thiel-Logistics USA,Inc., 3200 N.W. 112 Avenue, Miami, FL 33172. Officers: Lorenzo Lorenzo, Vice President (Qualifying Individual), Gunther Thiel, Chairman.

Perfect Express Corporation, 220 North Inglewood Avenue, Inglewood, CA 90301. Officers: Fang Hsien (Vincent) Lu, Vice President (Qualifying Individual), Patrick Chen, President/CEO.

Keystone Global Logistics, LLC, 309 Anderson Street, Crescent, PA 15046. Officers: Mariusz J. Bielawski, President (Qualifying Individual), Sheree Moorhouse, Vice President.

A A Pacific Inc., 1275 Anderson Avenue, Unit #6, Fort Lee, NJ 07024. Officers: Kefei Zhao, Marketing Director (Qualifying Individual), Xiaomei Liu, President.

RBA Logistics, Inc., 2804 N. Cannon Blvd, Kannapolis, NC 28083. Officers: Paul L. Blackwelder, Vice President (Qualifying Individual), Mary O. Bare, President.

Kabayan Cargo, Travel & Remittance Services, 1628 Sumatra Street, Hayward, CA 94544. Tranquilino Dionisio Gaspar, Sole Proprietor.

Ocean Freight Forwarder—Ocean Transportation Intermediary Applicant

A.M. Cargo Services, Inc., 5220 N.W. 72 Avenue, Bay #4, Miami, FL 33166-4858. Officers: Anna Maria Musumeci, President (Qualifying Individual), Anthony Musumeci, Director.

Dated: April 11, 2003.
Bryant L. VanBrakle,
Secretary.

[FR Doc. 03-9314 Filed 4-15-03; 8:45 am]

BILLING CODE 6730-01-P